DEPARTMENT OF DEFENSE

Office of the Secretary

[Transmittal No. 24-0B]

Arms Sales Notification

Correction

In notice document 2025-09363, appearing on pages 22249 through 22253 in the issue of Tuesday, May 27, 2025, make the following correction:

On pages 22250 and 22251, images should not have appeared.

[FR Doc. C1-2025-09363 Filed 6-6-25; 8:45 am]

BILLING CODE 0099-10-P